DEPARTMENT OF ENERGY

[OE Docket No. EA-352]

Application to Export Electric Energy; NaturEner Tie Line, LLC

AGENCY: Office of Electricity Delivery and Energy Reliability, DOE.

ACTION: Notice of application.

SUMMARY: NaturEner Tie Line, LLC (NaturEner) has applied for authority to transmit electric energy from the United States to Canada pursuant to section 202(e) of the Federal Power Act.

DATES: Comments, protests, or requests to intervene must be submitted on or before June 22, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On May 11, 2009, DOE received an application from NaturEner for authority to transmit electric energy from the United States to Canada. NaturEner is engaged in the marketing of electric power at wholesale from wind power generating stations located in the State of Montana. NaturEner does not own any electric transmission facilities nor does it hold a franchised service area. The electric energy which NaturEner proposes to export to Canada would be generated at wind powered generating stations (wind farms) located in the State of Montana and developed by an affiliate, NaturEner USA, LLC, a Delaware limited liability company. The electricity would be delivered to Canada using the international transmission facilities authorized by Presidential Permit No. PP-305, issued pursuant to Executive Order No. 10485, as amended, and currently under construction by the permit holder, Montana Alberta Tie Ltd. (MATL). NaturEner has acquired contractual rights to 300 MW of northbound transmission service on the MATL line and has requested an electricity export authorization with a 20-year term, the expected operating life of the wind farms from which it will acquire electric energy, and the effective term of the Transmission Service Agreements.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the NaturEner application to export electric energy to Canada should be clearly marked with Docket No. EA-352. Additional copies are to be filed directly with Nancy Murray, General Counsel, NaturEner Tie Line, LLC, 394 Pacific Avenue, Suite 300, San Francisco, CA 94111 and James B. Vasile, Davis Wright Tremaine LLP, 1919 Pennsylvania Avenue, NW., Suite 200, Washington, DC 20006. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on May 19, 2009.
Anthony J. Como,
Director, Permitting and Siting Office of Electricity Delivery and Energy Reliability.

[FR Doc. E9-11998 Filed 5-21-09; 8:45 am]

BILLING CODE 6450-01-P